DEPARTMENT OF COMMERCE

Economics and Statistics Administration; Bureau of Economic Analysis Advisory Committee Meeting

AGENCY: Bureau of Economic Analysis.

ACTION: Notice of public meeting.

SUMMARY: Pursuant to the Federal Advisory Committee Act (Public Law 92-463, as amended by Public Law 94-409, Public Law 96-523, and Public Law 97-375), we are giving notice of a meeting of the Bureau of Economic Analysis Advisory Committee. The meeting's agenda is as follows:

1. Discussion of the recent National Income and Product Account (NIPA) comprehensive revision, including the implications for future work.

2. Discussion of the measurement of difficult-to-measure sectors such as the banking sector.

3. Discussion of the measurement of high-tech and E-business/E-commerce.

4. Discussion of topics for future agendas.

DATES: On Friday, May 5, 2000, the meeting will begin at 9:30 a.m. and adjourn at approximately 4 p.m.

ADDRESSES: The meeting will take place at BEA, 2nd floor, Conference Room C&D, 1441 L Street NW., Washington, DC 20230.

FOR FURTHER INFORMATION CONTACT: J. Steven Landefeld, Director, Bureau of Economic Analysis, U.S. Department of Commerce, Washington, DC 20230; telephone: 202-606-9600.

Public Participation

This meeting is open to the public. Because of security procedures, anyone planning to attend the meeting must contact Colleen Ryan of BEA at 202-606-9603 in advance. The meeting is physically accessible to people with disabilities. Requests for sign language interpretation or other auxiliary aids should be directed to Colleen Ryan at 202-606-9603.

SUPPLEMENTARY INFORMATION: The Committee was established on September 2, 1999, to advise the Bureau of Economic Analysis (BEA) on matters related to the development and improvement of BEA's national, regional, and international accounts. This will be the Committee's first meeting.

Dated: March 30, 2000.
J. Steven Landefeld,
Director, Bureau of Economic Analysis.

[FR Doc. 00-8432 Filed 4-5-00; 8:45 am]

BILLING CODE 3510-06-M